DEPARTMENT OF ENERGY

Federal Energy Regulatory Commission

[Docket No. ER02-2033-002]

Midwest Independent Transmission System Operator, Inc.; Notice of Filing

August 30, 2002.

Take notice that on August 26, 2002, the Midwest Independent Transmission System Operator, Inc. (Midwest ISO) and American Transmission Company LLC (ATCLLC) submitted a compliance filing with the Federal Energy Regulatory Commission (Commission) in accordance with the Commission's August 1, 2002 Order in this proceeding to change the liability limitation provisions in the Midwest ISO OATT to remove the monetary caps on the recovery of direct damages for ordinary negligence.

The Midwest ISO states that it has served copies of its filing upon each person designated on the official service list compiled by the Secretary in the above-captioned proceeding.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 208-1659. Protests and interventions may be filed electronically via the Internet in lieu of paper; see 18 CFR 385.2001(a)(1)(iii) and the instructions on the Commission's Web site under the “e-Filing” link. The Commission strongly encourages electronic filings.

Comment Date: September 16, 2002.

Magalie R. Salas,
Secretary.

[FR Doc. 02-22713 Filed 9-5-02; 8:45 am]

BILLING CODE 6717-01-P